DEPARTMENT OF THE TREASURY

Office of Foreign Assets Control

Sanctions Actions Pursuant to the Foreign Narcotics Kingpin Designation Act

AGENCY: Office of Foreign Assets Control, Department of the Treasury.

ACTION: Notice.

SUMMARY: The U.S. Department of the Treasury's Office of Foreign Assets Control (OFAC) is publishing the names of persons whose property and interests in property are blocked pursuant to the Foreign Narcotics Kingpin Designation Act (Kingpin Act).

DATES: OFAC's actions described in this notice were effective on May 31, 2017.

FOR FURTHER INFORMATION CONTACT: OFAC: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The list of Specially Designated Nationals and Blocked Persons (SDN List) and additional information concerning OFAC sanctions programs are available on OFAC's Web site at http://www.treasury.gov/ofac.

Notice of OFAC Actions

On May 31, 2017, OFAC's Acting Director determined that the property and interests in property of the following persons are blocked pursuant to the Kingpin Act and placed them on the SDN List.

Individuals

1. AGUILAR RAMIREZ, Gabriel Jaime, Carrera 43 A 7 50, Of. 302, Medellin, Antioquia, Colombia; DOB 13 Nov 1956; POB Medellin, Antioquia, Colombia; Gender Male; Cedula No. 70117121 (Colombia); Matricula Mercantil No 21-291205-01 (Medellin) (individual) [SDNTK]. Designated pursuant to section 805(b)(2) of the Kingpin Act, 21 U.S.C. 1904(b)(2), for materially assisting in, or providing financial or technological support for or to, or providing goods or services in support of, the international narcotics trafficking activities of Juan Santiago GALLON HENAO, Pedro David GALLON HENAO, and LA OFICINA DE ENVIGADO. Also designated pursuant to section 805(b)(3) of the Kingpin Act, 21 U.S.C. 1904(b)(3), for acting for or on behalf of Juan Santiago GALLON HENAO and Pedro David GALLON HENAO.

2. ALVAREZ CASTRO, Santiago, Colombia; DOB 31 Dec 1956; POB Medellin, Antioquia, Colombia; Gender Male; Cedula No. 70118888 (Colombia) (individual) [SDNTK] (Linked To: CLAMASAN S.A.S.; Linked To: AGROINDUSTRIAS CIMA S.A.S.; Linked To: AGROPECUARIA MAIS SOCIEDAD POR ACCIONES SIMPLIFICADA). Designated pursuant to section 805(b)(3) of the Kingpin Act, 21 U.S.C. 1904(b)(3), for acting for or on behalf of Juan Santiago GALLON HENAO and Pedro David GALLON HENAO.

3. GALLON ARISTIZABAL, Mariana, Colombia; DOB 04 Nov 1992; POB Medellin, Antioquia, Colombia; Gender Female; Cedula No. 1152443588 (Colombia) (individual) [SDNTK] (Linked To: CLAMASAN S.A.S.; Linked To: GUISANES S.A.S.; Linked To: AGROPECUARIA MAIS SOCIEDAD POR ACCIONES SIMPLIFICADA; Linked To: AGROINDUSTRIAS CIMA S.A.S.). Designated pursuant to section 805(b)(3) of the Kingpin Act, 21 U.S.C. 1904(b)(3), for acting for or on behalf of Juan Santiago GALLON HENAO.

4. VARGAS GIRALDO, Claudia Mercedes, Colombia; DOB 04 Dec 1964; POB Medellin, Antioquia, Colombia; Gender Female; Cedula No. 42885957 (Colombia) (individual) [SDNTK] (Linked To: CLAMASAN S.A.S.; Linked To: GUISANES S.A.S.; Linked To: C.M.V. CARNES S.A.S.; Linked To: AGROPECUARIA MAIS SOCIEDAD POR ACCIONES SIMPLIFICADA). Designated pursuant to section 805(b)(3) of the Kingpin Act, 21 U.S.C. 1904(b)(3), for acting for or on behalf of Juan Santiago GALLON HENAO.

Entities

1. AGROINDUSTRIAS CIMA S.A.S., Calle 8 B 65 191, Of. 519, Medellin, Antioquia, Colombia; NIT # 900383867-6 (Colombia) [SDNTK]. Designated pursuant to section 805(b)(3) of the Kingpin Act, 21 U.S.C. 1904(b)(3), for being owned, controlled, or directed by Mariana GALLON ARISTIZABAL, Claudia Mercedes VARGAS GIRALDO, Juan Santiago GALLON HENAO, and Santiago ALVAREZ CASTRO.

2. AGROPECUARIA MAIS SOCIEDAD POR ACCIONES SIMPLIFICADA (a.k.a. AGROPECUARIA MAIS S.A.S.), Calle 35 85 B 40, Medellin, Antioquia, Colombia; Calle 8B No. 65-191, Ofc. 519, Medellin, Antioquia, Colombia; NIT # 900385162-1 (Colombia) [SDNTK]. Designated pursuant to section 805(b)(3) of the Kingpin Act, 21 U.S.C. 1904(b)(3), for being owned, controlled, or directed by Claudia Mercedes VARGAS GIRALDO, Mariana GALLON ARISTIZABAL, Juan Santiago GALLON HENAO, and Santiago ALVAREZ CASTRO.

3. CLAMASAN S.A.S., Calle 8 B 65 191 Of. 519, Medellin, Antioquia, Colombia; La Granja La Primavera, Km. 13 Via Angelopolis-Municipio Amaga, Antioquia, Colombia; Granja Terranova, Via Caracoli-Municipio de San Roque, Antioquia, Colombia; NIT # 811039334-6 (Colombia) [SDNTK]. Designated pursuant to section 805(b)(3) of the Kingpin Act, 21 U.S.C. 1904(b)(3), for being owned, controlled, or directed by Santiago ALVAREZ CASTRO and Juan Santiago GALLON HENAO.

4. C.M.V. CARNES S.A.S. (f.k.a. CLAUDIA MERCEDES VARGAS GIRALDO SOCIEDAD POR ACCIONES SIMPLIFICADA), Calle 8 B 65 191, Of. 519, Medellin, Antioquia, Colombia; NIT # 900392593-1 (Colombia) [SDNTK]. Designated pursuant to section 805(b)(3) of the Kingpin Act, 21 U.S.C. 1904(b)(3), for being owned, controlled, or directed by Claudia Mercedes VARGAS GIRALDO and Juan Santiago GALLON HENAO.

5. GUISANES S.A.S., Calle 8 B No. 65 191, Oficina 519, Medellin, Antioquia, Colombia; NIT # 811039331-4 (Colombia) [SDNTK]. Designated pursuant to section 805(b)(3) of the Kingpin Act, 21 U.S.C. 1904(b)(3), for being owned, controlled, or directed by Claudia Mercedes VARGAS GIRALDO, Mariana GALLON ARISTIZABAL, and Juan Santiago GALLON HENAO.

Dated: May 31, 2017.
Andrea M. Gacki,
Acting Director, Office of Foreign Assets Control.

[FR Doc. 2017-11622 Filed 6-5-17; 8:45 am]

BILLING CODE 4810-AL-P